DEPARTMENT OF AGRICULTURE

Animal and Plant Health Inspection Service

[Docket No. 04-105-2]

Melaleuca; Availability of an Environmental Assessment and Finding of No Significant Impact

AGENCY: Animal and Plant Health Inspection Service, USDA.

ACTION: Notice.

SUMMARY: We are advising the public that an environmental assessment and finding of no significant impact have been prepared by the Animal and Plant Health Inspection Service relative to the issuance of a permit for the environmental release of the nonindigenous fly Fergusonina turneri Taylor and its obligate nematode Fergusobia quinquenerviae Davies and Giblin-Davis, which are potential biological control agents of Melaleuca quinquenervia. The environmental assessment documents our review and analysis of environmental impacts associated with, and alternatives to, issuing a permit for the environmental release of the fly and its obligate nematode in the continental United States. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue SW., Washington, DC. Normal reading room hours are 8 a.m. to 4:30 p.m., Monday through Friday, except holidays. To be sure someone is there to help you, please call (202) 690-2817 before coming.

The environmental assessment and finding of no significant impact are also available on the Regulations.gov Web site. Go to http://www.regulations.gov, click on the “Advanced Search” tab, and select “Docket Search.” In the Docket ID field, enter APHIS-2005-0120 then click on “Submit” to view the documents.

FOR FURTHER INFORMATION CONTACT: Dr. L. Joseph Vorgetts, Permits Evaluation Specialist, Plant Health Programs, PPQ, APHIS, 4700 River Road Unit 133, Riverdale, MD 20737-1236; (301) 734-5405.

SUPPLEMENTARY INFORMATION:

Background

The Australian broad-leaved paperbark tree, Melaleuca quinquenervia, commonly called melaleuca, has become a successful invasive weed in southern Florida because of its ability to produce large quantities of seed. Individual trees bear up to 100 million seeds. Massive, simultaneous seed release occurs after fire or when some other event causes drying of the seed capsules, but a steady seed rain occurs even without such an event. Densities of seedlings may be as high as 10 million seedlings/hectare (ha), and growth and development of the trees, along with simultaneous self-thinning produces mature stands of 10,000 to 15,000 trees/ha. Individual trees can grow into localized stands. These stands merge with other stands to form expansive monocultures often covering hundreds of acres. Melaleuca has invaded more than a half-million acres in southern Florida and over $25 million has been spent over the past decade to manage it, yet it continues to spread.

Melaleuca was first imported to southern Florida as an ornamental tree around 1900. Later, it was widely planted in wetlands as an inexpensive production method for the nursery trade in an attempt to produce a harvestable commodity. By the late 1970s, melaleuca became recognized as an invasive weed due to its ability to produce large quantities of seed. It was added to the Florida Prohibited Plant List in 1990, and to the Federal Noxious Weed List in 1992.

On October 26, 2004, we published in the Federal Register (69 FR 62432-63433, Docket No. 04-105-1) a notice in which we announced the availability, for public review and comment, of an environmental assessment documenting our review and analysis of environmental impacts associated with issuing a permit for the release of the nonindigenous fly Fergusonina turneri Taylor (Diptera: Fergusoninidae) and its obligate nematode Fergusobia quinquenerviae Davies and Giblin-Davis (Tylenchida: Sphaerulariidae) as biological control agents of melaleuca in the continental United States.

The fly F. turneri and the nematode F. quinquenerviae have a mutualistic biology that causes galls on plant buds and young leaves of melaleuca. Female flies are infected with parasitic female nematodes, nematode eggs, and nematode juveniles that persist through the life of the female fly. The female fly deposits multiple eggs along with the juvenile nematodes into developing melaleuca buds. These nematodes induce the formation of galls in the bud. Fly larvae then feed on the gall tissue and complete development within the gall. The adult fly will later emerge from a “window” in the gall wall, starting the cycle all over again. This process hampers the ability of melaleuca to regenerate by decreasing seed production and reducing survival of melaleuca seedlings and saplings.

We solicited comments on the environmental assessment for 30 days ending on November 26, 2004. We received three comments by that date. One of the commenters supported the recommendations of the environmental assessment. The other two commenters did not address the environmental assessment. Therefore, we are making no changes to the environmental assessment in response to these comments.

In this document, we are advising the public of our decision and finding of no significant impact regarding the use of F. turneri and F. quinquenerviae to control melaleuca in the continental United States. This decision, which is based on the findings in the environmental assessment, will enable the Animal and Plant Health Inspection Service to issue permits for the field release of F. turneri and F. quinquenerviae without management constraints or mitigating measures.

The environmental assessment and finding of no significant impact may be viewed on the Regulations.gov Web site and in our reading room (see ADDRESSES above for instructions for accessing Regulations.gov and information on the location and hours of the reading room). You may request paper copies of the environmental assessment and finding of no significant impact by calling or writing to the person listed under FOR FURTHER INFORMATION CONTACT. Please refer to the title of the environmental assessment when requesting copies.

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 11th day of January 2006.
Paul R. Eggert,
Acting Administrator, Animal and Plant Health Inspection Service.

[FR Doc. E6-446 Filed 1-17-06; 8:45 am]

BILLING CODE 3410-34-P